DEPARTMENT OF THE INTERIOR

Bureau of Land Management

[ES-910-02-1430-HN-LRTN]

Notice of Availability and Protest Period for the Proposed Planning Analysis To Acquire Land in Fairfax County, Virginia by the Bureau of Land Management, U.S. Department of the Interior

AGENCY: Bureau of Land Management, Interior.

ACTION: Notice of availability and protest period.

SUMMARY: The Bureau of Land Management (BLM), Eastern States, has prepared a Proposed Planning Analysis (Proposed Plan), an Environmental Assessment (EA), and a Finding of No Significant Impact (FONSI) that address acquiring approximately 805 acres of land known as Meadowood Farm, located on Mason Neck in Fairfax County, Virginia. These documents were prepared to fulfill the requirements of the Federal Land Policy and Management Act of 1976 (FLPMA) and the National Environmental Policy Act of 1969 (NEPA).

DATES: The Proposed Plan, EA, and FONSI can be reviewed Mondays through Fridays, from 8 a.m. to 4 p.m., at the BLM's Eastern States Office, 7450 Boston Boulevard in Springfield, Virginia 22153, or by visiting the website at www.es.blm.gov. Protests to the Proposed Plan must be postmarked on or before August 27, 2001.

ADDRESSES: All protests must be filed only with the Director of the BLM and submitted by mail or overnight mail as follows: The address for regular mail is: Director, Bureau of Land Management, Att: Ms. Brenda Williams, Protest Coordinator, WO 210/LS-1075, U.S. Department of the Interior, 1849 C Street, NW., Washington, DC 20240; The address for overnight mail is: Director, Bureau of Land Management, Att: Ms. Brenda Williams, Protest Coordinator (WO 210); 1620 L Street, NW., Room 1075, Washington, DC 20036. Phone: (202) 452-5110.

FOR FURTHER INFORMATION CONTACT: Charles Bush, BLM Eastern States, (703) 440-1745 or Horace Traylor at (703) 440-1509.

SUPPLEMENTARY INFORMATION: The Proposed Plan, EA, and FONSI address acquiring approximately 805 acres of land known as Meadowood Farm, located on Mason Neck in Fairfax County, Virginia. This acquisition is provided for through PL 106-522, the DC Appropriations Act, 2001 (November 22, 2000). In accordance with the Act, the property would be managed by the BLM for public use and recreation purposes.

The Proposed Plan calls for acquisition of Meadowood Farm and continued interim use of the facility for boarding horses. The EA considered the following alternatives: The Proposed Action is for the BLM to acquire Meadowood Farm, and the No Action alternative is for the BLM not to acquire Meadowood Farm. The selected alternative, which is the Proposed Plan, would result in the BLM's acquiring Meadowood Farm. The planning process consisted of a public scoping period initiated by Federal Register Notice, publication in regional newspapers, and two public meetings.

The BLM planning process offers an opportunity for administrative review (43 CFR 1610.5-2). Any participant in the planning process who has an interest that is or may be adversely affected by the proposed decisions may file a protest in writing with the BLM Director. (See DATES and ADDRESSES sections above for the nonextendable deadline and specific addresses for filing protests on this Proposed Plan.) Only those persons or organizations that participated in the planning and analysis process may protest the proposed decisions in the Proposed Plan. Protests may raise only the issues that were previously submitted for the record during the planning and environmental analysis process by the protestor or another participant in the process.

To be considered complete, a protest must include, at a minimum, the following information:

1. The name, mailing address, telephone number, and interest of the person filing the protest.

2. A statement of the part or parts of the plan and the issues being protested. To the extent possible, this should be done by reference to specific pages, paragraphs, sections, tables, or maps included within the Proposed Plan and EA.

3. A copy of all documents addressing the issue(s) that the protesting party submitted during the planning process or a statement of the date they were discussed for the record.

4. A concise statement explaining why the protestor believes the proposed decision(s) is wrong. All relevant facts need to be included in the statement of reasons.

At the end of the 30-day protest period, a decision document can be issued and, excluding any portions under protest, the Proposed Plan will become final. Approval will be withheld on any portion of the Proposed Plan under protest until final action has been completed on that protest.

Dated: July 13, 2001.
Gayle F. Gordon,
State Director, Eastern States.

[FR Doc. 01-19549 Filed 8-3-01; 8:45 am]

BILLING CODE 4310-GJ-P